DEPARTMENT OF COMMERCE

International Trade Administration

[C-570-127]

Certain Non-Refillable Steel Cylinders From the People's Republic of China: Rescission of Countervailing Duty Administrative Review; 2020-2021

AGENCY: Enforcement and Compliance, International Trade Administration, Department of Commerce.

SUMMARY: The U.S. Department of Commerce (Commerce) is rescinding the administrative review of the countervailing duty (CVD) order on certain non-refillable steel cylinders (non-refillable cylinders) from the People's Republic China (China), covering the period August 28, 2020, though December 31, 2021.

DATES: Applicable October 21, 2022.

FOR FURTHER INFORMATION CONTACT: Kristen Johnson, AD/CVD Operations, Office III, Enforcement and Compliance, International Trade Administration, U.S. Department of Commerce, 1401 Constitution Avenue NW, Washington, DC 20230; telephone: (202) 482-4793.

SUPPLEMENTARY INFORMATION:

Background

On May 2, 2022, Commerce published in the Federal Register a notice of opportunity to request an administrative review of the CVD order on non-refillable cylinders from China, covering the period August 28, 2020, though December 31, 2021.¹ On May 31, 2022, Ningbo Eagle Machinery & Technology Co., Ltd. (Ningbo Eagle), Sanjiang Kai Yuan Co. Ltd (SKY), Wuyi Xilinde Machinery Manufacture Co., Ltd. (Wuyi Xilinde), and Zhejiang KIN-SHINE Technology Co., Ltd (KIN-SHINE) timely requested that Commerce conduct an administrative review.

¹ See Antidumping or Countervailing Duty Order, Finding, or Suspended Investigation; Opportunity To Request Administrative Review and Join Annual Inquiry Service List, 87 FR 25619 (May 2, 2022).

On July 14, 2022, Commerce published in the Federal Register a notice of initiation of an administrative review with respect to KIN-SHINE, Ningbo Eagle, SKY, and Wuyi Xilinde, in accordance with section 751(a) of the Tariff Act of 1930, as amended (the Act).² Also on July 14, 2022, Commerce released U.S. Customs and Border Protection (CBP) entry data for the POR to all interested parties.³ On August 17, 2022, Commerce notified interested parties of its intent to rescind the review of KIN-SHINE because the company did not have a reviewable, suspended entry of subject merchandise during the POR.⁴ Commerce provided parties an opportunity to submit comments, including factual information, to demonstrate whether there were reviewable entries during the POR for KIN-SHINE.⁵ No party submitted comments to Commerce.

² See Initiation of Antidumping and Countervailing Duty Administrative Reviews, 87 FR 42144, 42155 (July 14, 2022).

³ See Memorandum, “Countervailing Duty Order on Certain Non-Refillable Steel Cylinders from the People's Republic of China; First Administrative Review; Release of U.S. Customs and Border Protection Query,” dated July 14, 2022.

⁴ See Memorandum, “Administrative Review of the Countervailing Duty Order on Certain Non-Refillable Steel Cylinders from the People's Republic of China: Notice of Intent to Rescind Review, In Part,” dated August 17, 2022.

⁵ Id.

On August 26 and 30, 2022, Wuyi Xilinde and SKY, respectively, timely withdrew their requests for administrative review.⁶ On September 9, 2022, Ningbo Eagle timely withdrew its request for an administrative review.⁷

⁶ See Wuyi Xilinde's Letter, “Non-refillable Steel Cylinders from the People's Republic of China: Withdrawal of Request for Administrative Review and Request Suspension of Deadlines,” dated August 26, 2022; see also SKY's Letter, “Certain Non-Refillable Steel Cylinders from China; C-570-127; Withdrawal of Request for Administrative Review,” dated August 30, 2022.

⁷ See Ningbo Eagle's Letter, “Certain Non-Refillable Steel Cylinders from the People's Republic of China: Withdrawal of Request for Administrative Review,” dated September 9, 2022.

Rescission of Review

Pursuant to 19 CFR 351.213(d)(1), Commerce will rescind an administrative review if the party that requested the review withdraws its request within 90 days of the publication of the notice of initiation of the requested review. Ningbo Eagle, SKY, and Wuyi Xilinde withdrew their requests for review within the 90-day deadline. No other interested party requested an administrative review of Ningbo Eagle, SKY, and Wuyi Xilinde. We, therefore, are rescinding this administrative review for Ningbo Eagle, SKY, and Wuyi Xilinde.

Additionally, pursuant to 19 CFR 351.213(d)(3), it is Commerce's practice to rescind an administrative review of a CVD order where it concludes that there were no reviewable entries of subject merchandise during the POR for an exporter or producer.⁸ Normally, upon completion of an administrative review, the suspended entries are liquidated at the CVD assessment rate for the review period.⁹ Therefore, for an administrative review to be conducted, there must be a reviewable, suspended entry that Commerce can instruct CBP to liquidate at the calculated CVD assessment rate for the review period.¹⁰ As noted above, there were no entries of subject merchandise from KIN-SHINE during the POR. Accordingly, in the absence of reviewable, suspended entries of subject merchandise during the POR, we are rescinding this administrative review for KIN-SHINE, in accordance with 19 CFR 351.213(d)(3).

⁸ See, e.g., Certain Softwood Lumber Products from Canada: Final Results and Final Rescission, in Part, of the Countervailing Duty Administrative Review, 2020, 87 FR 48455 (August 9, 2022).

⁹ See 19 CFR 351.212(b)(2).

¹⁰ See 19 CFR 351.213(d)(3).

Assessment

Commerce will instruct CBP to assess countervailing duties on all appropriate entries. Because Commerce is rescinding this review in its entirety, the entries to which this administrative review pertained shall be assessed at rates equal to the cash deposit of estimated countervailing duties required at the time of entry, or withdrawal from warehouse, for consumption, in accordance with 19 CFR 351.212(c)(1)(i). Commerce intends to issue assessment instructions to CBP no earlier than 35 days after the date of publication of this rescission notice in the Federal Register.

Notification Regarding Administrative Protective Order

This notice serves as a final reminder to parties subject to administrative protective order (APO) of their responsibility concerning the return or destruction of proprietary information disclosed under APO in accordance with 19 CFR 351.305, which continues to govern business proprietary information in this segment of the proceeding. Timely written notification of the return or destruction of the APO materials, or conversion to judicial protective order is hereby requested. Failure to comply with regulations and terms of an APO is a violation, which is subject to sanction.

Notification to Interested Parties

This notice is issued and published in accordance with sections 751(a)(1) and 777(i)(l) of the Act, and 19 CFR 351.213(d)(4).

Dated: October 17, 2022.
James Maeder,
Deputy Assistant Secretary for Antidumping and Countervailing Duty Operations.

[FR Doc. 2022-22903 Filed 10-20-22; 8:45 am]

BILLING CODE 3510-DS-P